DEPARTMENT OF AGRICULTURE

Deschutes Provincial Advisory Committee (DPAC)

AGENCY: Forest Service.

ACTION: Notice of meeting.

SUMMARY: The Deschutes Provincial Advisory Committee will meet on July 31, starting at 8 a.m. at the Deschutes National Forest Supervisor's Office, 1001 SW., Emkay Drive, Bend, Oregon. There will be a 1 hour business meeting. Then, members will go to the field to the Bend Ft. Rock Ranger District to discuss winter recreation. The trip is scheduled to end at 4:30 p.m. All Deschutes Province Advisory Committee Meetings are open to the public and an open public forum is scheduled from 8:30 to 9 a.m.

FOR FURTHER INFORMATION CONTACT: Chris Mickle, Province Liaison, Crescent Ranger District, Highway 97, Crescent, Oregon 97733, Phone (541) 433-3216.

John Allen,
Deschutes National Forest Supervisor.

[FR Doc. E8-16942 Filed 7-23-08; 8:45 am]

BILLING CODE 3410-11-M